DEPARTMENT OF HEALTH AND HUMAN SERVICES

National Institutes of Health

Center for Scientific Review; Amended Notice of Meeting

Notice is hereby given of a change in the meeting of the Immunity and Host Defense Study Section, October 24, 2013, 08:30 a.m. to October 25, 2013, 05:00 p.m., Residence Inn Bethesda, 7335 Wisconsin Avenue, Bethesda, MD 20814, which was published in the Federal Register on October 01, 2013, 78 FR 60298.

The meeting will be held at the Washington Plaza Hotel, 10 Thomas Circle, Washington, DC 20005. The meeting will start on November 6, 2013 at 08:30 a.m. and end on November 7, 2013 at 05:00 p.m. The meeting is closed to the public.

Dated: October 30, 2013.
David Clary,
Program Analyst, Office of Federal Advisory Committee Policy.

[FR Doc. 2013-26314 Filed 11-1-13; 8:45 am]

BILLING CODE 4140-01-P